DEPARTMENT OF AGRICULTURE

Forest Service

Oregon Coast Provincial Advisory Committee

AGENCY: Forest Service, USDA.

ACTION: Notice of meeting.

SUMMARY: The Oregon Coast Province Advisory Committee will meet in Newport, OR, October 23, 2003. The theme of the meeting is Introduction/Overview/Business Planning. The agenda includes: Payments to Counties Update, Monitoring Trip Update, Coho Recovery Plan, PAC Subcommittee Presentation, BLM/Forest Service Settlement Agreement, Public Comment and Round Robin.

DATES: The meeting will be held October 23, 2003, beginning at 9 a.m.

ADDRESSES: The meeting will be held at the La Quinta Inn and Suites, 45 SE 32nd Street, Newport, OR.

FOR FURTHER INFORMATION CONTACT: Joni Quarnstrom, Public Affairs Specialist, Siuslaw National Forest, 541-750-7075, or write to Siuslaw National Forest Supervisor, P.O. Box 1148, Corvallis, OR 97339.

SUPPLEMENTARY INFORMATION: The meeting is open to the public. Council Discussion is limited to Forest Service/BLM staff and Council Members. Lunch will be on your own. A public input session will be at 2:30 p.m. for fifteen minutes. The meeting is expected to adjourn around 3:30 p.m.

Dated: October 7, 2003.
Carl Frounfelker,
Wildlife Biologist.

[FR Doc. 03-25863 Filed 10-10-03; 8:45 am]

BILLING CODE 3410-11-M